FEDERAL COMMUNICATIONS COMMISSION

Radio Broadcasting Services; AM or FM Proposals To Change the Community of License

AGENCY: Federal Communications Commission.

ACTION: Notice.

SUMMARY: The following applicants filed AM or FM proposals to change the community of License: Caldwell County CBC, Inc., Station WAVJ, Facility ID 15527, BPH-20160916ABG, From Princeton, KY, To Providence, KY; Four R Broadcasting, Inc., Station NEW, Facility ID 191560, BMPH-20160926AAF, From Christoval, TX, To Stanton, TX; Genesee Media Corporation, Station WOKR, Facility ID 15767, BP-20140124AME, From Brockport, NY, To Brighton, NY; Genesis Communications I, Inc., Station WHOO, Facility ID 54573, BP-20140721AAY, From Kissimmee, FL, To Winter Park, FL; Hopkins-Webster CBC, Inc., Station WWKY, Facility ID 67479, BPH-20160916ABC, From Providence, KY, To Sebree, KY; Radio 7 Media, LLC, Station WLXA, Facility ID 53875, BPH-20161012AAD, From Loretto, TN, To Florence, AL; Rich Broadcasting Idaho LS, LLC, Station KLLP, Facility ID 8413, BPH-20161011AEJ, From Chubbuck, ID, To Blackfoot, ID; Rich Broadcasting Idaho LS, LLC, Station KID-FM, Facility ID 22195, BPH-20161011AFL, From Idaho Falls, ID, To Aberdeen, ID; Shamrock Communications, Inc., Station KNEZ, Facility ID 166018, BPH-20160922ABD, From Fernley, NV, To Hazen, NV; The Montana Radio Company, LLC, Station KZMO, Facility ID 183371, BPH-20161011ABH, From Roundup, MT, To Klein, MT; University Of Wyoming, Station KAIW, Facility ID 93001, BPED-20160825ABH, From Laramie, WY, To Saratoga, WY.

DATES: The agency must receive comments on or before December 27, 2016.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2016-26110 Filed 10-27-16; 8:45 am]

BILLING CODE 6712-01-P